DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101 of the Federal Mine Safety and Health Act of 1977, the Secretary of Labor (Secretary) may allow the modification of the application of a mandatory safety standard to a mine if the Secretary determines either that an alternate method exists at a specific mine that will guarantee no less protection for the miners affected than that provided by the standard, or that the application of the standard at a specific mine will result in a diminution of safety to the affected miners.

Final decisions on these petitions are based on the petitioner's statements, comments and information submitted by interested persons, and a field investigation of the conditions at the mine. MSHA, as designee of the Secretary, has granted or partially granted the requests for modification listed below. In some instances, the decisions are conditioned upon compliance with stipulations stated in the decision. The term FR Notice appears in the list of affirmative decisions below. The term refers to the Federal Register volume and page where MSHA published a notice of the filing of the petition for modification.

FOR FURTHER INFORMATION CONTACT: Petitions and copies of the final decisions are available for examination by the public in the Office of Standards, Regulations, and Variances, MSHA, 1100 Wilson Boulevard, Room 2350, Arlington, Virginia 22209. For further information contact Barbara Barron at 202-693-9447.

Dated at Arlington, Virginia, this 25th day of January 2005.
Rebecca J. Smith,
Deputy Director, Office of Standards, Regulations, and Variances.

Affirmative Decisions on Petitions for Modification

Docket No.: M-2004-015-C.

FR Notice: 69 FR 23540.

Petitioner: Oxbow Mining, Inc.

Regulation Affected: 30 CFR 75.1100-2(b).

Summary of Findings: Petitioner's proposal is to use an alternative method for installing water lines for the entire length of the belt conveyors in lieu of keeping water line charged with water at all times. The Elk Creek Mine belt entry portal sits at approximately 6300 feet elevation, and in winter weather conditions causes freezing in the existing water line in the conveyor entry. This is considered an acceptable alternative method for the Elk Creek Mine. MSHA grants the petition for modification for the North Mains belt conveyor from crosscut 11 outby for the Elk Creek Mine with conditions.

Docket No.: M-2004-016-C.

FR Notice: 69 FR 23540.

Petitioner: Dolet Hills Lignite Company.

Regulation Affected: 30 CFR 77.803.

Summary of Findings: Petitioner's proposal is to use an alternative method of compliance when raising or lowering the boom and mast at construction sites during initial Dragline assembly. This method would only be used during the boom and mast raising or lowering process. The machine will not be performing mining operations when raising or lowering the boom for construction and maintenance. This is considered an acceptable alternative method for the Dolet Hills Lignite Mine. MSHA grants the petition for modification for dragline boom or mast raising, lowering, assembling, disassembling, or during major repairs which require raising or lowering the dragline boom or mast by the on-board generators for the Dolet Hills Lignite Mine with conditions.

Docket No.: M-2004-019-C.

FR Notice: 69 FR 27955.

Petitioner: Oak Grove Resources, LLC.

Regulation Affected: 30 CFR 75.507.

Summary of Findings: Petitioner's proposal is to use high-voltage submersible pumps in boreholes in an area of the Oak Creek Mine where water has accumulated. The pumps will be equipped with probes to determine a high and low water level, and will consist of redundant electronic pressure transducers that are suitable for submersible pump control application. This is considered an acceptable alternative method for the Oak Grove Mine. MSHA grants the petition for modification for the use of three-phase, alternating current submersible pump(s) installed in return and bleeder entries and in sealed areas in the Oak Grove Mine with conditions.

Docket No.: M-2004-020-C.

FR Notice: 69 FR 30726.

Petitioner: D & D Anthracite Coal Company.

Regulation Affected: 30 CFR 75.335.

Summary of Findings: Petitioner's proposal is to use wooden materials of moderate size and weight for constructing seals due to the difficulty in accessing previously driven headings and breasts containing inaccessible abandoned workings; to accept a design criteria in the 10 psi range; and to permit the water trap to be installed in the gangway seal and sampling tube in the monkey seal for seals installed in pairs. This is considered an acceptable alternative method for the Primrose Slope Mine. MSHA grants the petition for modification for seals installed in the Primrose Slope Mine with conditions.

Docket No.: M-2004-024-C.

FR Notice: 69 FR 35686.

Petitioner: Consolidation Coal Company.

Regulation Affected: 30 CFR 75.364(b)(2).

Summary of Findings: Petitioner's proposal is to establish evaluation check points 1 and 2 to evaluate and confirm the proper ventilation between the Sugar Run Seals and the 3 North Bleeder Seals areas through the Main North headings, due to deteriorating rib and roof conditions which will expose personnel to hazardous conditions if the affected area is traveled in its entirety. This is considered an acceptable alternative method for the Loveridge No. 22 Mine. MSHA grants the petition for modification for the unsafe-to-travel segment (approximately 950 feet) of the Sugar Run Bottom area designated return entries used in ventilating between the Sugar Run Seals and the 3 North Bleeder Seals of the Loveridge No. 22 Mine with conditions.

Docket No.: M-2004-025-C.

FR Notice: 69 FR 43628.

Petitioner: Consolidation Coal Company.

Regulation Affected: 30 CFR 75.312(c) and (d).

Summary of Findings: Petitioner's proposal is to test automatic closing doors and the automatic fan signal device at least every 31 days without removing miners from the mine. The petitioner will install an alarm system on the fans. The alarm system will have a mechanical switch mounted to the fan housing and designed to activate a relay in the fan monitoring panel when the air reversal prevention door is in the closed position. The relay will activate a warning light near the door location, and an audible and visible alarm will be provided at a location where a responsible person is always on duty in the working sections and will have a two-way communication while miners are working underground. This is considered an acceptable alternative method for the Loveridge No. 22 Mine. MSHA grants the petition for modification for tests of (1) the automatic fan stoppage signal device and (2) the automatically closing airflow-reversal-prevention doors to be performed without shutting down the mine fan, and without removing the miners from the mine at the Loveridge No. 22 Mine with conditions.

Docket No.: M-2004-027-C.

FR Notice: 69 FR 43628.

Petitioner: Snyder Coal Company.

Regulation Affected: 30 CFR 49.2.

Summary of Findings: Petitioner's proposal is to use two mine rescue teams of three members with one alternate to serve both teams in lieu of two mine rescue teams with five members and one alternate. The petitioner asserts that to use five or more rescue team members in the confined working places of the mine would result in a diminution of safety to the miners and the rescue team. This is considered an acceptable alternative method for the No. 1 Rock Slope Mine. MSHA grants the petition for modification for the No. 1 Rock Slope Mine with conditions.

Docket No.: M-2004-031-C.

FR Notice: 69 FR 43628.

Petitioner: Eastern Associated Coal Corporation.

Regulation Affected: 30 CFR 75.507.

Summary of Findings: Petitioner's proposal is to use a 480-volt, three-phase alternating current electric power circuit for its non-permissible deep well submersible pump installed in the Shriver Shaft. This petition was filed for existing safety standard 30 CFR 75.364(b)(7). The applicable section of the regulation is 30 CFR 75.507, because item 4 of the special terms and conditions in a previous petition for modification, docket number M-86-35-C, granted November 17, 1986, and made final December 20, 1986, states “Air passing through the tunnel shall not be used to ventilate non-permissible electric equipment or components.” MSHA is requiring, for this 30 CFR 75.507 petition only, that the surface pump installations and control and power circuits(s) be examined under the 30 CFR 77.502 requirements because the circuit(s) that enter into the underground areas of the mine cannot be examined in their entirety to satisfy the requirements of 30 CFR 75.512 or the 30 CFR 75.364(b)(7) week examination requirement. This is considered an acceptable alternative method for the Federal No. 2 Mine. MSHA grants the petition for modification for the Federal No. 2 Mine with conditions.

Docket No.: M-2004-037-C.

FR Notice: 69 FR 55841.

Petitioner: Eastern Associated Coal Corporation.

Regulation Affected: 30 CFR 75.503.

Summary of Findings: Petitioner's proposal is to use trailing cables longer than the cable length specified in 30 CFR 18.35 for certain roof bolters, mobile roof supports, and shuttle cars. The cables for roof bolters will not exceed 900 feet, and 850 feet for shuttle cars. The cables for the 480-volt mobile roof supports will not be smaller than a No. 4 A.W.G., the trailing cables for roof bolters (e) will not be smaller than No. 2 A.W.G., and the cables for shuttle cars will not be smaller than No. 1/0. This is considered an acceptable alternative method for the Harris No. 1 Mine. MSHA grants the petition for modification for the Harris No. 1 Mine with conditions.

[FR Doc. 05-1694 Filed 1-28-05; 8:45 am]

BILLING CODE 4510-43-P